NUCLEAR REGULATORY COMMISSION

[Docket No. 50-354]

PSEG Nuclear LLC; Notice of Withdrawal of Application for Amendment to Facility Operating License

The U.S. Nuclear Regulatory Commission (the Commission) has granted the request of PSEG Nuclear LLC (the licensee) to withdraw its November 29, 2000, application as supplemented August 10, 2001, for proposed amendment to Facility Operating License No. NPF-57 for the Hope Creek Generating Station (HCGS), located in Salem County, New Jersey.

The proposed amendment would have modified the HCGS technical specifications to reflect the enabling of the Oscillation Power Range Monitor (OPRM) reactor protection system (RPS) trip function. The OPRM is designed to detect the onset of reactor core power oscillations resulting from thermal-hydraulic instability and suppress them by initiating a reactor scram via the RPS trip logic.

The Commission had previously issued a Notice of Consideration of Issuance of Amendment published in the Federal Register on December 27, 2000 (65 FR 81930). However, by letter dated October 19, 2001, the licensee withdrew the proposed change. The withdrawal request was based on the extended time period General Electric Company (GE) is projecting to resolve a defect that was reported to the Commission pursuant to part 21 of Title 10 of the Code of Federal Regulations (10 CFR part 21). The defect pertains to GE's OPRM setpoint methodology as detailed in letters from GE to the Commission dated June 29 and August 31, 2001. The defect could result in non-conservative OPRM trip setpoints. The OPRM is currently installed at HCGS with the RPS trip function disabled.

For further details with respect to this action, see the application for amendment dated November 29, 2000, as supplemented August 10, 2001, and the licensee's letter dated October 19, 2001, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS, should contact the NRC Public Document Room (PDR) Reference staff by telephone at 1-800-397-4209, 301-415-4737 or by email to pdr@nrc.gov.

Dated at Rockville, Maryland, this 28th day of November 2001.
For the Nuclear Regulatory Commission.
Richard B. Ennis,
Project Manager, Section 2, Project Directorate I, Divisionof Licensing Project Management Office of Nuclear Reactor Regualtion.

[FR Doc. 01-29971 Filed 12-3-01; 8:45 am]

BILLING CODE 7590-01-P